DEPARTMENT OF COMMERCE

International Trade Administration

University of Georgia, et al.; Notice of Consolidated Decision on Applications for Duty-Free Entry of Electron Microscopes

This is a decision consolidated pursuant to Section 6(c) of the Educational, Scientific, and Cultural Materials Importation Act of 1966 (Pub. L. 89-651, as amended by Pub. L. 106-36, 80 Stat. 897; 15 CFR part 301). Related records can be viewed between 8:30 a.m. and 5:00 p.m. in Room 2104, U.S. Department of Commerce, 14th and Constitution Avenue., NW., Washington, DC.

Docket Number: 07-041. Applicant: University of Georgia. Instrument: Electron Microscope, Model Inspect F. Manufacturer: FEI Company, The Netherlands. Intended Use: See notice at 72 FR 41495, July 30, 2007.

Docket Number: 07-045. Applicant: Florida Fish and Wildlife Research Institute. Instrument: Electron Microscope, Model JEM-1400. Manufacturer: JEOL Ltd., Japan. Intended Use: See notice at 72 FR 41495, July 30, 2007.

Docket Number: 07-046. Applicant: Howard Hughes Medical Institute. Instrument: Electron Microscope, Model Tecnai G2 20 TWIN. Manufacturer: FEI Company, Czech Republic. Intended Use: See notice at 72 FR 41495, July 30, 2007.

Docket Number: 07-048. Applicant: The University of Michigan. Instrument: Electron Microscope. Manufacturer: Delong Instruments, Czech Republic. Intended Use: See notice at 72 FR 41495, July 30, 2007.

Comments: None received. Decision: Approved. No instrument of equivalent scientific value to the foreign instrument, for such purposes as these instruments are intended to be used, was being manufactured in the United States at the time the instruments were ordered. Reasons: Each foreign instrument is an electron microscope and is intended for research or scientific educational uses requiring an electron microscope. We know of no electron microscope, or any other instrument suited to these purposes, which was being manufactured in the United States at the time of order of each instrument.

Dated: August 20, 2007.
Faye Robinson,
Director, Statutory Import Programs Staff Import Administration.

[FR Doc. E7-16687 Filed 8-22-07; 8:45 am]

BILLING CODE 3510-DS-S